DEPARTMENT OF HOMELAND SECURITY

U.S. Citizenship and Immigration Services

[CIS No. 2709-21; DHS Docket No. USCIS-2022-0004]

RIN 1615-ZB94

Designation of Afghanistan for Temporary Protected Status

AGENCY: U.S. Citizenship and Immigration Services (USCIS), Department of Homeland Security (DHS).

ACTION: Notice of Temporary Protected Status (TPS) designation.

SUMMARY: Through this notice, the Department of Homeland Security (DHS) announces that the Secretary of Homeland Security (Secretary) is designating Afghanistan for Temporary Protected Status (TPS) for 18 months, effective May 20, 2022, through November 20, 2023. This designation allows eligible Afghan nationals (and individuals having no nationality who last habitually resided in Afghanistan) who have continuously resided in the United States since March 15, 2022, and who have been continuously physically present in the United States since May 20, 2022 to apply for TPS.

DATES:

Designation of Afghanistan for TPS: The 18-month designation of Afghanistan for TPS is effective on May 20, 2022 and will remain in effect for 18 months, through November 20, 2023.

Registration: The registration period for eligible individuals to submit TPS applications begins May 20, 2022 and will remain in effect through November 20, 2023.

ADDRESSES: For further information on TPS, including guidance on the registration process and additional information on eligibility, please visit the USCIS TPS web page at uscis.gov/tps. You can find specific information about Afghanistan's TPS designation by selecting “Afghanistan” from the menu on the left side of the TPS web page.

If you have additional questions about TPS, please visit uscis.gov/tools. Our online virtual assistant, Emma, can answer many of your questions and point you to additional information on our website. If you are unable to find your answers there, you may also call our USCIS Contact Center at 800-375-5283 (TTY 800-767-1833).

Applicants seeking information about the status of their individual cases may check Case Status Online, available on the USCIS website at uscis.gov, or visit the USCIS Contact Center at uscis.gov/contactcenter.

Further information will also be available at local USCIS offices upon publication of this notice.

FOR FURTHER INFORMATION CONTACT: You may contact Rená Cutlip-Mason, Chief, Humanitarian Affairs Division, Office of Policy and Strategy, U.S. Citizenship and Immigration Services, Department of Homeland Security, by mail at 5900 Capital Gateway Drive, Camp Springs, MD 20746, or by phone at 800-375-5283.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-765—Application for Employment Authorization

Form I-797—Notice of Action (Approval Notice)

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Purpose of This Action (TPS)

Through this notice, DHS sets forth procedures necessary for eligible nationals of Afghanistan (or individuals having no nationality who last habitually resided in Afghanistan) to submit an initial registration application under the designation of Afghanistan for TPS and apply for an employment authorization document (EAD). Under the designation, individuals must submit an initial Afghanistan TPS application (Form I-821) and they may also submit an Application for Employment Authorization (Form I-765), during the 18-month initial registration period that runs from May 20, 2022, through November 20, 2023.¹ In addition to demonstrating continuous residence in the United States since March 15, 2022,² and meeting other eligibility criteria, initial applicants for TPS under this designation must demonstrate that they have been continuously physically present in the United States since May 20, 2022, the effective date of this designation of Afghanistan, before USCIS may grant them TPS. DHS estimates that approximately 72,500 individuals are eligible to file applications for TPS under the designation of Afghanistan.

¹ In general, individuals must be given an initial registration period of no less than 180 days to register for TPS, but the Secretary has discretion to provide for a longer registration period. See 8 U.S.C. 1254a(c)(1)(A)(iv). In keeping with the humanitarian purpose of TPS and advancing the goal of ensuring “the Federal Government eliminates . . . barriers that prevent immigrants from accessing government services available to them” under Executive Order 14012, Restoring Faith in Our Legal Immigration Systems and Strengthening Integration and Inclusion Efforts for New Americans, 86 FR 8277 (Feb. 5, 2021), the Secretary has recently exercised his discretion to provide for TPS initial registration periods that coincide with the full period of a TPS country's initial designation or redesignation. See, e.g., 87 FR 23211 (Apr. 19, 2022) (providing 18-mos. registration period under the new TPS designation of Ukraine); 87 FR 23202 (Apr. 19, 2022) (providing 18-mos. registration period under the new TPS designation of Sudan); 86 FR 38744 (July 22, 2021) (providing 18-mos. registration period under the TPS redesignation of Somalia). For the same reasons, the Secretary is similarly exercising his discretion to provide applicants under this TPS designation of Afghanistan with an 18-month initial registration period.

² The “continuous physical presence date” (CPP) is the effective date of the most recent TPS designation of the country, which is either the publication date of the designation announcement in the Federal Register or such later date as the Secretary may establish. The “continuous residence date” (CR) is any date established by the Secretary when a country is designated (or sometimes redesignated) for TPS. See INA section 244(b)(2)(A) (effective date of designation); 244(c)(1)(A)(i-ii) (discussing CR and CPP date requirements).

What is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to work so long as they continue to meet the requirements of TPS. They may apply for and receive EADs as evidence of employment authorization.

• TPS beneficiaries may also apply for and be granted travel authorization as a matter of discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

Why was Afghanistan designated for TPS?

DHS has reviewed conditions in Afghanistan. Based on this review, and after consulting with the Department of State (DOS), the Secretary has determined that an 18-month designation is warranted because of ongoing armed conflict and the extraordinary and temporary conditions described below.

Overview

In August 2021, the Taliban took over Kabul after waging a 20-year insurgency against the government of Afghanistan and U.S. and NATO forces. Armed conflict and insurgency continue throughout the country of Afghanistan.³ The Taliban is seen as both ill-equipped and unwilling to meet the country's numerous challenges including the current security situation, economic collapse, a crumbling healthcare system, severe food insecurity, and respect for human rights.⁴ Afghanistan is undergoing a humanitarian disaster. The United Nations has called the current situation “unparalleled, with more than 24.4 million people requiring humanitarian assistance to survive.” ⁵ “Half the population [is] facing acute hunger, including 9 million people in emergency food insecurity—the highest number globally [with] [m]alnutrition on the rise, and livelihoods [that] have been destroyed.” ⁶

³ Afghanistan's Collapsing Economy Heightens ‘Risk of Extremism,' UN Envoy Warns, Radio Free Europe/Radio Liberty, Nov. 18, 2021, available at: https://gandhara.rferl.org/a/afghanistan-un-lyons-assets-humanitarian-crisis-hunger/31567075.html (last visited Apr. 8, 2022).

⁴ Nilofar Sakhi, The humanitarian and human security crises in Afghanistan, Middle East Institute (MEI), Oct. 12, 2021, available at: https://www.mei.edu/publications/humanitarian-and-human-security-crises-afghanistan (last visited Apr. 8, 2022).

⁵ Afghanistan Conference 2022, UN Web TV, Mar. 31, 2022, available at: https://media.un.org/en/asset/k1p/k1puubpv5u (last visited Apr. 15, 2022).

⁶ Afghanistan Conference 2022, UN Web TV, Mar. 31, 2022, available at: https://media.un.org/en/asset/k1p/k1puubpv5u (last visited Apr. 15, 2022).

Armed Conflict and Security Situation

The Taliban controlled most of Afghanistan from 1996 to 2001, invoking Sharia law to remove women from public life, enforce strict moral codes, and exact draconian punishments for transgressions including dismemberment and public executions.⁷ In response to the Taliban harboring al-Qaida and Osama bin Laden after the attacks of September 11, 2001,⁸ U.S. forces began airstrikes and a ground invasion that, by mid-November 2001, in concert with actions by remaining Mujahideen fighters under the Northern Alliance, drove the Taliban from most of Afghanistan. Following a transition of security responsibility from the NATO-led International Security Assistance Force (ISAF) to the Afghan National Defense and Security Forces (ANDSF),⁹ the Taliban expanded its presence across larger parts of the country ¹⁰ and by 2017, the Islamic State in Iraq and the Levant-Khorasan Province (ISIS-K) emerged, adding “a new, dangerous dimension” to the situation.¹¹

⁷ Carter Malkasian, The American War in Afghanistan, pp. 43 (Oxford University Press, 2021).

⁸ Carter Malkasian, The American War in Afghanistan, pp. 53-67 (Oxford University Press, 2021).

⁹ Inteqal: Transition to Afghan lead, NATO, updated Nov. 17, 2020, available at: https://www.nato.int/cps/en/natohq/topics_87183.htm (last visited Apr. 8, 2022).

¹⁰ Afghanistan: Growing Challenges, International Crisis Group, Apr. 30, 2017, available at: https://www.crisisgroup.org/asia/south-asia/afghanistan/afghanistan-growing-challenges (last visited Apr. 8, 2022).

¹¹ Special report on the strategic review of the United Nations Assistance Mission in Afghanistan, Report of the Secretary-General, A/72/312-S/2017/696, UN Security Council, p. 3, Aug. 10, 2017, available at: https://unama.unmissions.org/sites/default/files/special_report_on_the_strategic_review_of_the_united_nations_assistance_mission_in_afghanistan.pdf (last visited Apr. 8, 2022).

Beginning in 2019, the United States engaged with the Taliban to establish an agreement to withdraw troops, with various efforts over the next two years seeking assurances that the Taliban would meet counter-terrorism pledges and participate in intra-Afghan peace talks.¹² In April 2021, President Biden announced a complete U.S. military withdrawal by September 11, 2021, and in early July 2021, U.S. troops began withdrawal operations, including from their largest base at Bagram.¹³ The Taliban began rapidly taking territory including regional urban centers, and beginning August 6, provincial capitals.¹⁴ The Taliban took over Kabul on August 15, and on August 30, 2021, the last U.S. forces departed Afghanistan.¹⁵

¹² The U.S. War in Afghanistan: 1999-2021, Council on Foreign Relations, 2021, available at: https://www.cfr.org/timeline/us-war-afghanistan (last visited Apr. 12, 2022).

¹³ Thomas Gibbons-Neff, U.S. Leaves Its Last Afghan Base, Effectively Ending Operations, N.Y. Times, Jul. 4, 2021, available at: https://www.nytimes.com/2021/07/02/world/asia/afghanistan-bagram-us-withdrawal.html (last visited Apr. 8. 2022).

¹⁴ The U.S. War in Afghanistan: 1999-2021, Council on Foreign Relations, 2021, available at: https://www.cfr.org/timeline/us-war-afghanistan (last visited on Apr. 12, 2022).

¹⁵ The U.S. War in Afghanistan: 1999-2021, Council on Foreign Relations, 2021, available at: https://www.cfr.org/timeline/us-war-afghanistan (last visited Apr. 12, 2022).

Before the withdrawal of U.S. and NATO troops, armed conflict had taken a high toll on Afghan civilians. The U.N. Assistance Mission in Afghanistan (UNAMA) recorded 116,076 civilian deaths and injuries due to armed conflict from 2009 until June 2021 with record numbers of girls and women killed and injured, as well as record numbers of overall child casualties.¹⁶

¹⁶ Afghanistan: Protection of Civilians in Armed Conflict—Annual Report 2020, U.N. Assistance Mission in Afghanistan, Feb. 2021, available at: https://unama.unmissions.org/sites/default/files/afghanistan_protection_of_civilians_report_2020_revs3.pdf (last visited Apr. 8, 2022); Afghanistan: Protection of Civilians in Armed Conflict—Midyear Update: 1 January to 30 June 2021, U.N. Assistance Mission in Afghanistan, Jul. 2021, available at: https://unama.unmissions.org/sites/default/files/unama_poc_midyear_report_2021_26_july.pdf (last visited Apr. 8, 2022).

Civilians face continuing risk of harm due to ground engagements between the Taliban and ISIS-K, as well as direct punitive targeting by Taliban fighters reportedly taking retaliatory action against people associated with the Ashraf Ghani administration ¹⁷ and sectarian attacks on the Shiite minority by ISIS-K.¹⁸ It is reported that “attacks on civilians made up 36 percent of all disorder events, indicating that civilians will continue to remain at heightened risk of violence under” the Taliban.¹⁹

¹⁷ “No Forgiveness for People Like You” Executions and Enforced Disappearances in Afghanistan under the Taliban, Human Rights Watch, Nov. 30, 2021, available at: https://www.hrw.org/report/2021/11/30/no-forgiveness-people-you/executions-and-enforced-disappearances-afghanistan (last visited Apr. 15, 2022).

¹⁸ See Afghanistan Security situation update, Country of Origin Information Report, European Asylum Support Office (EASO), Sept. 9, 2021, available at: https://coi.easo.europa.eu/administration/easo/PLib/2021_09_EASO_COI_Report_Afghanistan_Security_situation_update.pdf (last visited Apr. 8, 2022).

¹⁹ 10 Conflicts to Worry About in 2022, High risk of violence targeting civilians under Taliban rule, The Armed Conflict Location & Event Data Project (ACLED), Jan. 2022, available at: https://acleddata.com/10-conflicts-to-worry-about-in-2022/afghanistan/ (last visited Apr. 8, 2022).

i. Taliban

Following the withdrawal of U.S. and NATO troops and collapse of the Afghan military, armed conflict continues in Afghanistan as the Taliban attempts to impose their rule across the country.²⁰ Taliban forces have clashed with remaining resistance fighters in Panjshir Province ²¹ and unknown and little-known groups, including “Anonymous Fighters” and “Turkistan Freedom Tigers,” have targeted Taliban forces, notably in Jowzjan and Takhar provinces.²²

²⁰ See Afghanistan Security situation update, Country of Origin Information Report, European Asylum Support Office (EASO), Sept. 9, 2021, available at: https://coi.easo.europa.eu/administration/easo/PLib/2021_09_EASO_COI_Report_Afghanistan_Security_situation_update.pdf (last visited Apr. 8, 2022).

²¹ Regional Overview: South Asia and Afghanistan 5-11 March 2022, ACLED, Mar. 2022, available at: https://acleddata.com/2022/03/16/regional-overview-south-asia-and-afghanistan-5-11-march-2022 (last visited Apr. 8. 2022); Regional Overview: South Asia and Afghanistan 19-25 February, ACLED, Feb. 2022, available at: https://acleddata.com/2022/03/03/regional-overview-south-asia-and-afghanistan-19-25-february-2022/ (last visited Apr. 8, 2022).

²² Regional Overview: South Asia and Afghanistan 26 February to 4 March 2022, ACLED, Mar. 2022, available at: https://acleddata.com/2022/03/10/regional-overview-south-asia-and-afghanistan-26-february-4-march-2022/ (last visited Apr. 8, 2022); Regional Overview: South Asia and Afghanistan 5-11 February 2022, ACLED, Feb. 2022, available at: https://acleddata.com/2022/02/17/regional-overview-south-asia-and-afghanistan-5-11-february-2022/ (last visited Apr. 8, 2022).

Despite their pledge not to do so, reports indicate that the Taliban are targeting old adversaries including former Afghan police and military personnel, increasing the potential for escalating armed conflict.²³ General instability in the country, including instability caused by an economic crisis, increases the difficulty of establishing security and thwarting the rise of further extremism.²⁴

²³ Radio Azadi, Michael Scollon, Taliban Takes Revenge On Former Afghan Security Forces, Radio Free Europe/Radio Liberty, Oct. 12, 2021, available at: https://gandhara.rferl.org/a/taliban-revenge-afghan-security-forces/31505696.html (last visited Apr. 8. 2022).

²⁴ Afghanistan's Collapsing Economy Heightens ‘Risk of Extremism,' UN Envoy Warns, Radio Free Europe/Radio Liberty, Nov. 18, 2021, available at: https://gandhara.rferl.org/a/afghanistan-un-lyons-assets-humanitarian-crisis-hunger/31567075.html (last visited Apr. 8, 2022).

The Taliban appear committed to maintaining its methods of warfare that have taken a heavy toll on civilians, including retaining a contingent of trained suicide bombers, as central to its combat and political strategy.²⁵ Though the Taliban pledged to not allow al-Qaida to “threaten the security of the United States and its allies” from Afghan soil, veteran Taliban leaders with deep relationships with al-Qaida organizers have returned to positions of power, raising concern that the Taliban will once again create a safe space for global jihadists.²⁶ The Taliban have announced the appointment to positions of power members of the Haqqani family, known for operating a brutal terrorist network during the Taliban insurgency,²⁷ and veteran Taliban leaders with ties to al-Qaida.²⁸

²⁵ Abubakar Siddique, As Taliban Attempts to Transform from Insurgency to Government, Suicide Bombers Remain Key to Its Strategy, Radio Free Europe/Radio Liberty, November 4, 2021, available at: https://gandhara.rferl.org/a/taliban-suicide-bombings-afghanistan/31546216.html (last visited Apr. 8, 2022).

²⁶ Abubakar Siddique & Abdul Hai Kakar, Al-Qaeda Could Flourish With New Strategy Under Taliban Rule, Radio Free Europe/Radio Liberty, Sept. 30, 2021, available at: https://gandhara.rferl.org/a/afghanistan-al-qaeda-taliban/31486256.html (last visited Apr. 8, 2022); Driss El-Bay, Afghanistan: The pledge binding al-Qaeda to the Taliban, BBC News, Sept. 7, 2021, available at: https://www.bbc.com/news/world-asia-58473574 (last visited Apr. 8, 2022).

²⁷ Hardliners get key posts in new Taliban government, BBC News, Sept. 7, 2021, available at: https://www.bbc.com/news/world-asia-58479750 (last visited Apr. 8, 2022).

²⁸ Hardliners get key posts in new Taliban government, BBC News, Sept. 7, 2021, available at: https://www.bbc.com/news/world-asia-58479750 (last visited Apr. 8, 2022).

ii. Islamic State-Khorasan

The threat of ISIS-K is growing, with increasing risk to civilians. The Department of State designated ISIS-K as a “foreign terrorist organization” in January 2016, and U.S. forces engaged in significant operations to reduce its numbers and to reclaim the small swaths of territory that it held.²⁹ The Taliban have long engaged in efforts to eradicate the organization, and they continue to fight a renewed ISIS-K insurgency, frequently resulting in civilian casualties.³⁰ ISIS-K claimed responsibility for the August 26, 2021, suicide attack outside Kabul airport, and has been behind some of the deadliest operations against Afghan civilians.³¹ A feature of ISIS-K's attacks is large-scale IED and suicide bombings of Hazara Shia mosques and gatherings, which are dramatically increasing sectarian violence in Afghanistan.³²

²⁹ Golnaz Esfandiari, Explainer: Who Are Islamic State-Khorasan and What Are They After?, Radio Free Europe/Radio Liberty, Aug. 27, 2021, available at: https://gandhara.rferl.org/a/islamic-state-khorasan-expainer/31431763.html (last visited Apr. 8, 2022).

³⁰ Golnaz Esfandiari, Explainer: Who Are Islamic State-Khorasan and What Are They After?, Radio Free Europe/Radio Liberty, Aug. 27, 2021, available at: https://gandhara.rferl.org/a/islamic-state-khorasan-expainer/31431763.html (last visited Apr. 8, 2022).

³¹ Golnaz Esfandiari, Explainer: Who Are Islamic State-Khorasan and What Are They After?, Radio Free Europe/Radio Liberty, Aug. 27, 2021, available at: https://gandhara.rferl.org/a/islamic-state-khorasan-expainer/31431763.html (last visited Apr. 8, 2022).

³² Golnaz Esfandiari, Explainer: Who Are Islamic State-Khorasan and What Are They After?, Radio Free Europe/Radio Liberty, Aug. 27, 2021, available at: https://gandhara.rferl.org/a/islamic-state-khorasan-expainer/31431763.html (last visited Apr. 8, 2022).

United Nations Special Representative for Afghanistan, Deborah Lyons, indicated that the Taliban have been unable to stem the expansion of ISIS-K, and that it now appears to be present in nearly all provinces.³³ As of November 17, 2021, she stated that the number of attacks attributed to ISIS-K has increased significantly from 60 last year to 334 this year.³⁴ The Armed Conflict Location & Event Data Project (ACLED), a non-profit data collection, analysis, and crisis mapping project, reports multiple recent attacks by ISIS-K during the months of October and November 2021, including engagements with the Taliban and targeting of civilians.³⁵

³³ Afghanistan's Collapsing Economy Heightens ‘Risk Of Extremism,' UN Envoy Warns, Radio Free Europe/Radio Liberty, Nov. 18, 2021, available at: https://gandhara.rferl.org/a/afghanistan-un-lyons-assets-humanitarian-crisis-hunger/31567075.html (last visited Apr. 8, 2022).

³⁴ Afghanistan's Collapsing Economy Heightens ‘Risk Of Extremism,' UN Envoy Warns, Radio Free Europe/Radio Liberty, Nov. 18, 2021, available at: https://gandhara.rferl.org/a/afghanistan-un-lyons-assets-humanitarian-crisis-hunger/31567075.html (last visited Apr. 8, 2022).

³⁵ Regional Overview: South Asia and Afghanistan 30 October to 5 November 2021, ACLED, Nov. 2021, available at: https://acleddata.com/2021/11/11/regional-overview-south-asia-and-afghanistan-30-october-5-november-2021/ (last visited Apr. 8, 2022).

iii. Destruction of Infrastructure

Afghanistan faces significant challenges due to the destruction of vital infrastructure during armed conflict. There are numerous reports that the Taliban targeted power stations and distribution equipment, dug up roads and destroyed bridges, destroyed cell towers and communications infrastructure, and damaged schools, medical facilities, and government buildings during their insurgency.³⁶ The education system is also at risk of complete collapse due to the economic crisis.³⁷

³⁶ Statement on Continuation of Assassinations, Kidnappings, and Destruction of Vital Infrastructure, US Embassy in Afghanistan, Jan. 31, 2021, available at: https://af.usembassy.gov/statement-on-continuation-of-assassinations-kidnappings-and-destruction-of-vital-infrastructure/ (last visited May 3, 2022); Secretary-General's press encounter on Afghanistan, U.N. Secretary-General, Aug. 13, 2021, available at: https://www.un.org/sg/en/content/secretary-general%E2%80%99s-press-encounter-afghanistan (last visited Apr. 8, 2022); Sayed Salahuddin, 10 killed in twin Kabul blasts, power supply disrupted across Afghanistan, Arab News, Jun. 2, 2021, available at: https://www.arabnews.com/node/1869436/world (last visited May 3, 2022); Anisa Shaheed, Taliban Destroyed, Damaged Infrastructure in 116 Districts: IARCS, TOLOnews, Jul. 15, 2021, available at: https://tolonews.com/afghanistan-173540 (last visited May 3, 2022); Country of Origin Information Report: Afghanistan Security Situation Update, European Asylum Support Office (EASO), Sep. 2021, available at: https://coi.euaa.europa.eu/administration/easo/PLib/2021_09_EASO_COI_Report_Afghanistan_Security_situation_update.pdf (last visited May 3, 2022).

³⁷ Four Ways to Support Girls' Access to Education in Afghanistan, Human Rights Watch, Mar. 20, 2022, available at: https://www.hrw.org/news/2022/03/20/four-ways-support-girls-access-education-afghanistan (last visited Apr. 8, 2022).

During the Taliban insurgency in the first half of 2021, the “39 electricity pylons that bring imported power into Afghanistan [were] damaged.” ³⁸ Power supply subsequently became “extremely erratic even in the capital Kabul,” with notable disruptions to Kunduz, Baghlan, Kabul, Nangarhar and Parwan provinces.³⁹ “Millions of Afghans have become intimately familiar with regular power cuts and being forced to navigate daily tasks and chores with just a few hours of electricity supply.” ⁴⁰

³⁸ Ruchi Kumar, Taliban targeting Afghanistan's crucial power, IT infrastructure, Al Jazeera, Jul. 15, 2021, available at: https://www.aljazeera.com/news/2021/7/15/taliban-afghanistan-it-electricity-power (last visited Apr. 8, 2022).

³⁹ Ruchi Kumar, Taliban targeting Afghanistan's crucial power, IT infrastructure, Al Jazeera, Jul. 15, 2021, available at: https://www.aljazeera.com/news/2021/7/15/taliban-afghanistan-it-electricity-power (last visited Apr. 8, 2022).

⁴⁰ Ruchi Kumar, Taliban targeting Afghanistan's crucial power, IT infrastructure, Al Jazeera, Jul. 15, 2021, available at: https://www.aljazeera.com/news/2021/7/15/taliban-afghanistan-it-electricity-power (last visited Apr. 8, 2022); Blasts cut power to millions in Afghanistan before Eid holiday, Al Jazeera, Apr. 30, 2022, available at: https://www.aljazeera.com/news/2022/4/30/blasts-cut-power-to-millions-in-afghanistan-ahead-of-eid (last visited May 4, 2022).

In July 2021, the Taliban reportedly frequently attacked power and communications infrastructure in their advance, blowing up fiber optics systems and destroying telecommunications antennas across the country, seriously affecting digital and mobile communication.⁴¹ The Taliban reportedly either torched or destroyed 260 government buildings and assets in 116 districts,⁴² leaving more than 13 million people without access to public services and halting “hundreds of development projects such as the reconstruction of water supply networks, roads, retaining walls, the construction of schools, bridges, hospitals, stadiums, cold storage facilities, [and] drilling wells.” ⁴³ The armed conflict left the Afghan countryside “littered with abandoned and decaying power plants, prisons, schools, factories, office buildings and military bases.” ⁴⁴

⁴¹ Ruchi Kumar, Taliban targeting Afghanistan's crucial power, IT infrastructure, Al Jazeera, Jul. 15, 2021, available at: https://www.aljazeera.com/news/2021/7/15/taliban-afghanistan-it-electricity-power (last visited Apr. 8, 2022).

⁴² Anisa Shaheed, Taliban Destroyed, Damaged Infrastructure in 116 Districts: IARCS, TOLO News, Jul. 15, 2021, available at: https://tolonews.com/afghanistan-173540 (last visited Apr. 8, 2022).

⁴³ Anisa Shaheed, Taliban Destroyed, Damaged Infrastructure in 116 Districts: IARCS, TOLO News, Jul. 15, 2021, available at: https://tolonews.com/afghanistan-173540 (last visited Apr. 8, 2022).

⁴⁴ Daniel Nasaw, U.S. Left Afghanistan Littered With Decaying Factories, Schools, Offices, Wall Street Journal, Sept. 6, 2021, available at: https://www.wsj.com/articles/u-s-left-afghanistan-littered-with-decaying-factories-schools-offices-11630933200 (last visited Apr. 8, 2022).

iv. Danger From Explosive Remnants of War Including Landmines

Explosive remnants of war (ERW) which failed to detonate, including landmines, pose a significant risk to civilians in Afghanistan, killing or injuring tens of thousands during the past three decades.⁴⁵ These munitions “from more recent armed clashes caused over 98 percent of the [ERW] casualties recorded in 2021,” of which more than 79 percent were children.⁴⁶ And “[d]ue to evolving conflict dynamics, Afghanistan's humanitarian mine action needs are now as great as they have ever been.” ⁴⁷ The Taliban have reportedly agreed to permit the HALO Trust (Hazardous Area Life-Support Organization), a British-American charity in Afghanistan that has been clearing land mines for decades, to continue its work,⁴⁸ yet in June 2021 ISIS-K militants attacked HALO staff members, killing 10, suggesting that they continue to face substantial risk.⁴⁹ In addition, the organization reports that new mines and explosive devices were laid and left behind in the battles leading up to the Taliban's takeover of Kabul.⁵⁰

⁴⁵ Afghanistan, The United Nations Mine Action Service (UNMAS), Mar. 2022, available at: https://www.unmas.org/en/programmes/afghanistan (last visited May 4, 2022).

⁴⁶ Afghanistan, The United Nations Mine Action Service (UNMAS), Mar. 2022, available at: https://www.unmas.org/en/programmes/afghanistan (last visited May 4, 2022).

⁴⁷ Afghanistan, The United Nations Mine Action Service (UNMAS), Mar. 2022, available at: https://www.unmas.org/en/programmes/afghanistan (last visited May 4, 2022).

⁴⁸ Clearing Afghanistan's Landmines One Careful Step a Time, Voice of America (VOA) News, Nov. 21, 2021, available at: https://www.voanews.com/a/clearing-afghanistan-s-landmines-one-careful-step-a-time/6318080.html (last visited Apr. 28, 2022).

⁴⁹ Najim Rahim & Mike Ives, Attack in Afghanistan Kills 10 From Charity That Clears Land Mines, N.Y. Times, Jun. 9, 2021, available at: https://www.nytimes.com/2021/06/09/world/asia/afghanistan-land-mines-halo-trust.html (last visited Apr. 8, 2022).

⁵⁰ Clearing Afghanistan's Landmines One Careful Step a Time, Voice of America (VOA) News, Nov. 21, 2021, available at: https://www.voanews.com/a/clearing-afghanistan-s-landmines-one-careful-step-a-time/6318080.html (last visited Apr. 28, 2022).

v. Rising Internal Displacement

Rising internal displacement emanates from the ongoing armed conflict and the unstable security situation in Afghanistan. Land pressures and related disputes have also been a challenge in Afghanistan, fueling displacements, and complicating the security and relocation options for internally displaced persons (IDPs).⁵¹ As of March 15, 2022, UNHCR reported there were approximately 3.4 million conflict-induced IDPs in Afghanistan—with 736,889 of those added in 2021.⁵² The United Nations Office for the Coordination of Humanitarian Affairs (UNOCHA) noted that these IDPs are from 33 out of the 34 provinces in Afghanistan, and 79 percent of those added in 2021 are women and children.⁵³ UNOCHA further stated, “[i]nadequate shelter, food insecurity, insufficient access to sanitation and health facilities, as well as a lack of protection, often result in precarious living conditions that jeopardizes the well-being and dignity of affected families.” ⁵⁴ Reports reflect that the Taliban exacerbated the IDP problem by forcing thousands of people from their homes, including Hazaras as well as former government officials, and redistributing their property to Taliban supporters.⁵⁵

⁵¹ See Land, People, and the State in Afghanistan: 2002-2012, Afghanistan Research and Evaluation Unit (AREU), Feb. 2013, available at: http://www.refworld.org/docid/5136fbc72.html (last visited Apr. 8, 2022); Gulamaiz Sharifi, Abubakar Siddique, Afghan Hazaras Fear The Worst After Forced Taliban Evictions, Radio Free Europe/Radio Liberty, Oct. 6, 2021, available at: https://gandhara.rferl.org/a/afghanistan-hazaras-taliban/31496224.html (last visited Apr. 8, 2022).

⁵² Flash External Update: Afghanistan Situation #15, U.N. High Commissioner for Refugees (UNHCR), Mar. 15, 2022, available at: https://data2.unhcr.org/en/documents/details/91524 (last visited Apr. 8, 2022).

⁵³ Afghanistan: Conflict Induced Displacements, U.N. Office for the Coordination of Humanitarian Affairs (UNOCHA), Nov. 21, 2021, available at: https://www.humanitarianresponse.info/en/operations/afghanistan/idps (last visited Apr. 8, 2022).

⁵⁴ Afghanistan: Conflict Induced Displacements, U.N. Office for the Coordination of Humanitarian Affairs (UNOCHA), Nov. 21, 2021, available at: https://www.humanitarianresponse.info/en/operations/afghanistan/idps (last visited Apr. 8, 2022).

⁵⁵ Emma Graham-Harrison, Taliban `forcibly evicting' Hazaras and opponents in Afghanistan, The Guardian, Oct. 23, 2021, available at: https://www.theguardian.com/world/2021/oct/23/taliban-forcibly-evicting-hazaras-and-opponents-in-afghanistan (last visited Apr. 8, 2022).

Economic Collapse and Health Concerns

i. Economic Impacts of Taliban Takeover

Economic ramifications of the Taliban takeover in August 2021 include “millions of dollars in lost income, spiking prices, a liquidity crisis, and shortages of cash.” ⁵⁶ The cessation of purchasing power of the Afghan population as a result of the termination of international assistance once used to pay salaries has caused an “enormous number of Afghan households [to] immediately los[e] their primary sources of income. According to a World Food Program survey released in February 2022, four out of five households reported no income or significantly reduced incomes in January 2022.” ⁵⁷ In October 2021, the World Bank noted that “the sudden loss of public sector activity will have impacts throughout the economy, especially in the service and construction sectors (which account for 58 percent of GDP).” ⁵⁸

⁵⁶ Afghanistan Facing Famine, UN, World Bank, US Should Adjust Sanctions, Economic Policies, Human Rights Watch, Nov. 11, 2021, available at: https://www.hrw.org/news/2021/11/11/afghanistan-facing-famine (last visited Apr. 8, 2022).

⁵⁷ Afghanistan: Economic Roots of the Humanitarian Crisis, Questions and Answers on Human Costs of Sanctions, Banking Restrictions, Human Rights Watch, Mar. 1, 2022, available at: https://www.hrw.org/news/2022/03/01/afghanistan-economic-roots-humanitarian-crisis?gclid=Cj0KCQjw5-WRBhCKARIsAAId9Fnpi5weaKquaERnky8T0Ry0t9FSOsR2mWY_nGA5NmEA3iRz1L8BjF4aAkmGEALw_wcB#_Why_did_the (last visited Apr. 8, 2022).

⁵⁸ The World Bank in Afghanistan Overview, The World Bank, Oct. 8, 2021, available at: https://www.worldbank.org/en/country/afghanistan/overview#1 (last visited Apr. 8, 2022).

In November 2021, the Taliban banned the use of foreign currency, which may “further disrupt an economy on the brink of collapse.” ⁵⁹ Banking officials note that “most Afghan banks cannot cover withdrawals by private actors and aid organizations” and “[e]ven when funds are transmitted electronically into banks, the lack of cash means that money is not physically available and therefore cannot flow into the country's economy.” ⁶⁰ When compared to the Taliban's previous peak in the 1990s, “poverty this time can only be predicted to be worse and more keenly felt.” ⁶¹ As of February 2022, the UN Development Programme (UNDP) could not access its funds in the Afghanistan International Bank (AIB) for program implementation because the Taliban-run AIB cannot convert it to Afghani currency.⁶² Of the $4 billion worth of afghanis, in the economy, only $500 million worth was in circulation, “hindering humanitarian operations in Afghanistan, where more than half the country's 39 million people suffer extreme hunger and the economy, education and social services face collapse.” ⁶³

⁵⁹ Taliban bans foreign currencies in Afghanistan, BBC News, Nov. 3, 2021, available at: https://www.bbc.com/news/business-59129470 (last visited Apr. 8, 2022).

⁶⁰ Afghanistan Facing Famine, UN, World Bank, US Should Adjust Sanctions, Economic Policies, Human Rights Watch, Nov. 11, 2021, available at: https://www.hrw.org/news/2021/11/11/afghanistan-facing-famine (last visited Apr. 8, 2022).

⁶¹ Kate Clark, Killing the Goose that Laid the Golden Egg: Afghanistan's economic distress post-15 August, Afghanistan Analysts Network, Nov. 11, 2021, available at: https://www.afghanistan-analysts.org/en/reports/economy-development-environment/killing-the-goose-that-laid-the-golden-egg-afghanistans-economic-distress-post-15-august/ (last visited Apr. 8, 2022).

⁶² Michelle Nichols, U.N. has millions in Afghanistan bank, but cannot use it, Reuters, Feb. 3, 2022, available at: https://www.reuters.com/world/asia-pacific/un-has-millions-afghanistan-bank-cannot-use-it-2022-02-03/ (last visited May 4, 2022).

⁶³ Michelle Nichols, U.N. has millions in Afghanistan bank, but cannot use it, Reuters, Feb. 3, 2022, available at: https://www.reuters.com/world/asia-pacific/un-has-millions-afghanistan-bank-cannot-use-it-2022-02-03/ (last visited May 4, 2022).

ii. Access to Food, Potable Water, and Healthcare

Rising prices, increasing unemployment, and a drop in the value of the local currency exacerbate food insecurity trends.⁶⁴ The Executive Director of the World Food Programme (WFP) described the likelihood of widespread famine in Afghanistan as “the worst humanitarian crisis on Earth.” ⁶⁵ One in three Afghan nationals are acutely food insecure.⁶⁶ For the first time, urban and rural areas now experience similar rates of food insecurity.⁶⁷ According to recent WFP surveys, “only five percent of households in Afghanistan have enough to eat every day” and “half reported they had run out of food altogether at least once, in the past two weeks.” ⁶⁸ As a result of current circumstances, some families are selling their children, especially girls, to obtain food.⁶⁹

⁶⁴ In the grip of hunger: Only 5 percent of Afghan families have enough to eat, World Food Programme, Sept. 23, 2021, available at: https://www.wfp.org/stories/grip-hunger-only-5-percent-afghan-families-have-enough-eat (last visited Apr. 8, 2022).

⁶⁵ John Simpson, Afghans facing `hell on earth' as winter looms, BBC News, Nov. 8, 2021, available at: https://www.bbc.com/news/world-asia-59202880 (last visited Apr. 8, 2022).

⁶⁶ Federica Marsi, Medics overwhelmed as Afghanistan healthcare crumbles, Al Jazeera, Sept. 28, 2021, available at: https://www.aljazeera.com/features/2021/9/28/medics-in-afghanistan-face-tough-choices-as-healthcare-crumbles (last visited Apr. 8, 2022).

⁶⁷ Afghanistan's healthcare system on brink of collapse, as hunger hits 95 per cent of families, UN News, Sept. 22, 2021, available at: https://news.un.org/en/story/2021/09/1100652 (last visited Apr. 8, 2022).

⁶⁸ Afghanistan's healthcare system on brink of collapse, as hunger hits 95 per cent of families, UN News, Sept. 22, 2021, available at: https://news.un.org/en/story/2021/09/1100652 (last visited Apr. 8, 2022).

⁶⁹ Afghanistan Facing Famine, UN, World Bank, US Should Adjust Sanctions, Economic Policies, Human Rights Watch, Nov. 11, 2021, available at: https://www.hrw.org/news/2021/11/11/afghanistan-facing-famine (last visited Apr. 8, 2022).

The Afghan government officially declared a drought on June 22, 2021.⁷⁰ Considered “one of the worst droughts of the last two decades,” the resulting conditions “are particularly severe in the south, western, and northwestern parts of the country.” ⁷¹ Severe drought has impacted 7.3 million people across 25 out of 34 provinces.⁷² The U.S. Special Inspector General for Afghanistan Reconstruction (SIGAR) reports that “drought conditions are likely to persist and even worsen into 2022, further deteriorating food security among Afghans.” ⁷³ The current drought also “inhibits hydroelectric production in Afghanistan,” exacerbating the country's reliance on electricity imports that it can no longer afford.⁷⁴ In 2021, “reduced winter snowfall” and “below average spring rainfall in the west” contributed to “low river flows and insufficient water in existing reservoirs and dams.” ⁷⁵ Some drinking water wells in Kabul went dry due to decreasing groundwater levels, and “...the groundwater table (meaning the level of the water naturally stored underground) in Kabul city has dropped by 12 meters in 2021 alone.” ⁷⁶

⁷⁰ Quarterly Report to the United States Congress, SIGAR—Special Inspector General for Afghanistan Reconstruction, Oct. 30, 2021, available at: https://www.ecoi.net/en/file/local/2063773/2021-10-30qr.pdf (last visited Apr. 8, 2022).

⁷¹ Global Warming and Afghanistan: Drought, hunger, and thirst expected to worsen, Afghanistan Analysts Network, Nov. 6, 2021, available at: https://www.afghanistan-analysts.org/en/reports/economy-development-environment/global-warming-and-afghanistan-drought-hunger-and-thirst-expected-to-worsen/ (last visited Apr. 8, 2022).

⁷² `Shah Meer Baloch, `The challenge for us now is drought, not war': Livelihoods of millions of Afghans at risk, The Guardian, Sept. 21, 2021, available at: https://www.theguardian.com/global-development/2021/sep/21/drought-war-livelihoods-afghan-farmers-risk-taliban-security-forces-kandahar (last visited on Apr. 8, 2022).

⁷³ Quarterly Report to the United States Congress, SIGAR—Special Inspector General for Afghanistan Reconstruction, Oct. 30, 2021, available at: https://www.ecoi.net/en/file/local/2063773/2021-10-30qr.pdf (last visited Apr. 8, 2022).

⁷⁴ Quarterly Report to the United States Congress, SIGAR—Special Inspector General for Afghanistan Reconstruction, Oct. 30, 2021, available at: https://www.ecoi.net/en/file/local/2063773/2021-10-30qr.pdf (last visited Apr. 8, 2022).

⁷⁵ Global Warming and Afghanistan: Drought, hunger, and thirst expected to worsen, Afghanistan Analysts Network, Nov. 6, 2021, available at: https://www.afghanistan-analysts.org/en/reports/economy-development-environment/global-warming-and-afghanistan-drought-hunger-and-thirst-expected-to-worsen/ (last visited Apr. 8, 2022).

⁷⁶ Global Warming and Afghanistan: Drought, hunger, and thirst expected to worsen, Afghanistan Analysts Network, Nov. 6, 2021, available at: https://www.afghanistan-analysts.org/en/reports/economy-development-environment/global-warming-and-afghanistan-drought-hunger-and-thirst-expected-to-worsen/ (last visited Apr. 8, 2022).

An insufficiently staffed healthcare system predated the Taliban takeover of Kabul.⁷⁷ In 2018, Afghanistan “had a nationwide average of only 4.6 medical doctors, nurses, and midwives per 10,000 people, far below the WHO threshold of 23 per 10,000 people,” indicating a critical shortage that was more pronounced in rural areas.⁷⁸ By September 2021, the World Health Organization (WHO) asserted that the healthcare system was on the brink of collapse.⁷⁹ The World Bank and other organizations froze approximately $600 million in health care aid, leaving at risk the effective deployment of a variety of treatments, surgeries, immunizations, and procedures.⁸⁰ While there have been recent dispersals of international aid, “including $308 million in relief authorized by the United States, they have not been enough to cover 1,200 health facilities and 11,000 health workers.” ⁸¹

⁷⁷ Quarterly Report to the United States Congress, SIGAR—Special Inspector General for Afghanistan Reconstruction, p. 139, Oct. 30, 2021, available at: https://www.ecoi.net/en/file/local/2063773/2021-10-30qr.pdf (last visited Apr. 8, 2022).

⁷⁸ Quarterly Report to the United States Congress, SIGAR—Special Inspector General for Afghanistan Reconstruction, p. 139, Oct. 30, 2021, available at: https://www.ecoi.net/en/file/local/2063773/2021-10-30qr.pdf (last visited Apr. 8, 2022).

⁷⁹ Afghanistan's healthcare system on brink of collapse, as hunger hits 95 per cent of families, UN News, Sept. 22, 2021, available at: https://news.un.org/en/story/2021/09/1100652 (last visited Apr. 8, 2022).

⁸⁰ Apoorva Mandavilli, Health Care in Afghanistan Is Crumbling, Aid Groups Warn, N.Y. Times, Sept. 12, 2021, available at: https://www.nytimes.com/2021/09/12/health/afghanistan-health-taliban.html (last visited Apr. 8, 2022).

⁸¹ Afghanistan's Health Care System Is Collapsing Under Stress, N.Y. Times, Feb. 06, 2022, available at: https://www.nytimes.com/2022/02/06/world/asia/afghanistans-health-care-system.html (last visited May 3, 2022).

Declining staffing levels is a factor during the recent conflict as doctors, nurses, and midwives have “stopped working or fled the country” ⁸² and there have been reported incidents of insurgent groups targeting healthcare workers with threats, intimidation, abduction, and killings.⁸³ Additionally, Taliban restrictions requiring that women be escorted to health appointments by male family members and bans on male healthcare professionals treating women are further compromising women's access to health care.⁸⁴ The International Rescue Committee has predicted that 90 percent of health clinics in Afghanistan will likely close in the near future as a result of the Taliban takeover and the freezing of international funding.⁸⁵

⁸² Country Policy and Information Note Afghanistan: Medical treatment and healthcare, UK Home Office, p. 10, Oct. 2021, available at: https://www.ecoi.net/en/file/local/2062549/AFG_CPIN_Medical_and_healthcare.pdf (last visited Apr. 8, 2022) (citing Giving birth under the Taliban, BBC News, Sept. 20, 2021, available at: https://www.bbc.com/news/world-asia-58585323).

⁸³ Country Guidance: Afghanistan, Common analysis and guidance note, European Asylum Support Office (EASO), p. 65, Nov. 2021. available at: https://www.easo.europa.eu/sites/default/files/Country_Guidance_Afghanistan_2021.pdf (last visited Apr. 8, 2022).

⁸⁴ Afghanistan: Economic Roots of the Humanitarian Crisis, Questions and Answers on Human Costs of Sanctions, Banking Restrictions, Human Rights Watch, Mar. 1, 2022, available at: https://www.hrw.org/news/2022/03/01/afghanistan-economic-roots-humanitarian-crisis?gclid=Cj0KCQjw5-WRBhCKARIsAAId9Fnpi5weaKquaERnky8T0Ry0t9FSOsR2mWY_nGA5NmEA3iRz1L8BjF4aAkmGEALw_wcB#_Why_did_the (last visited Apr. 8, 2022).

⁸⁵ Crisis in Afghanistan: Unprecedented hunger after the conflict, International Rescue Committee, Jan. 7, 2022, available at: https://www.rescue.org/article/crisis-afghanistan-unprecedented-hunger-after-conflict (last visited Apr. 8, 2022).

Human Rights Abuses and Repression

The Taliban exclude women, as well as non-Pashtuns with only a few exceptions,⁸⁶ and have been described as highly totalitarian.⁸⁷ The Taliban's takeover presents significant concerns about the stability of human rights and safety for segments of the population.

⁸⁶ Alissa J. Rubin, Taliban Complete Interim Government, Still Without Women, N.Y. Times, Sept. 21, 2021, available at: https://www.nytimes.com/2021/09/21/world/asia/taliban-women-government.html (last visited Apr. 8, 2022).

⁸⁷ Nilofar Sakhi, The Humanitarian and Human Security Crises in Afghanistan, Middle East Institute (MEI), Oct. 12, 2021, available at: https://www.mei.edu/publications/humanitarian-and-human-security-crises-afghanistan (last visited Apr. 8, 2022).

i. Women and Girls

Despite substantial improvements in the social, political, and economic conditions for women and girls since 2001, violence targeting women and girls remained pervasive in Afghanistan before the Taliban takeover.⁸⁸ Even before the Taliban takeover of Kabul, “discrimination, harassment, and violence against women” were “endemic in government-controlled areas and in government ministries.” ⁸⁹ Studies cited by the former Ministry of Women's Affairs showed that greater than half of Afghan women reported physical abuse, and 17 percent reported sexual violence, with rampant underreporting.⁹⁰ Since August 2021, the status of women and girls has become “increasingly precarious,” with reports of new restrictions placed on women.⁹¹ In September 2021, the Taliban announced the revival of the so-called Ministry for the Propagation of Virtue and Prevention of Vice,⁹² which when it previously existed, “became a notorious symbol of abuse, particularly against women and girls.” ⁹³ These developments exist within a broader context of “traditional, restrictive views of gender roles and rights, including some views consistent with the Taliban's former practices . . . especially in rural areas and among younger men.” ⁹⁴

⁸⁸ Country Guidance: Afghanistan—Common analysis and guidance note, European Asylum Support Office (EASO), p. 78, Nov. 2021, available at: https://www.easo.europa.eu/sites/default/files/Country_Guidance_Afghanistan_2021.pdf (last visited Apr. 8, 2022).

⁸⁹ Afghan Women and Girls: Status and Congressional Action, Congressional Research Service, p. 1, updated Aug. 18, 2021, available at: https://crsreports.congress.gov/product/pdf/IF/IF11646 (last visited Apr. 8, 2022).

⁹⁰ Alissa J. Rubin, Threats and Fear Cause Afghan Women's Protections to Vanish Overnight, N.Y. Times, Sept. 4, 2021, updated October 7, 2021, available at: https://www.nytimes.com/2021/09/04/world/middleeast/afghanistan-women-shelter-taliban.html (last visited Apr. 8, 2022).

⁹¹ Afghan Women and Girls: Status and Congressional Action, Congressional Research Service, p. 1, updated Aug. 18, 2021, available at: https://crsreports.congress.gov/product/pdf/IF/IF11646 (last visited Apr. 8, 2022).

⁹² Afghanistan: Taliban `Vice' Handbook Abusive, Discriminatory Rules, Ignored Protections, Human Rights Watch, Oct. 29, 2021, available at: https://www.hrw.org/news/2021/10/29/afghanistan-taliban-vice-handbook-abusive (last visited Apr. 8, 2022); Haq Nawaz Khan, Ellen Francis, and Adam Taylor, The Taliban is bringing back its feared ministry of `vice' and `virtue', The Washington Post, Sept. 8, 2021, available at: https://www.washingtonpost.com/world/2021/09/08/afghan-vice-virtue-ministry/ (last visited Apr. 15, 2022); Kathy Gannon, Taliban replace ministry for women with `virtue' authorities, AP News, Sept. 18, 2021, available at: https://www.washingtonpost.com/world/2021/09/08/afghan-vice-virtue-ministry/ (last visited Apr. 15, 2022).

⁹³ Afghanistan: Taliban `Vice' Handbook Abusive, Discriminatory Rules, Ignored Protections, Human Rights Watch, Oct. 29, 2021, available at: https://www.hrw.org/news/2021/10/29/afghanistan-taliban-vice-handbook-abusive (last visited Apr. 8. 2022).

⁹⁴ Afghan Women and Girls: Status and Congressional Action, Congressional Research Service, p. 1, updated Aug. 18, 2021, available at: https://crsreports.congress.gov/product/pdf/IF/IF11646 (last visited Apr. 8, 2022).

Since August 2021, specialized courts and prosecution units, “responsible for enforcing the 2009 Law on the Elimination of Violence Against Women, have been discontinued.” ⁹⁵ Many legal professionals involved with women's protections from sexual, domestic, and other violence went into hiding or fled the country, and most domestic violence shelters have closed.⁹⁶ As shelters closed some survivors were reportedly sent to detention centers while individuals convicted of gender-based violence were released by the Taliban. ⁹⁷

⁹⁵ Experts decry measures to ‘steadily erase' Afghan women and girls from public life, United Nations News, Jan. 17, 2022, available at: https://news.un.org/en/story/2022/01/1109902 (last visited Apr. 8, 2022).

⁹⁶ Fereshta Abbasi, Afghan Women Fleeing Violence Lose Vital Protection, For Survivors of Abuse, Shelters Offered Lifeline, Human Rights Watch, Sept. 24, 2021, available at: https://www.hrw.org/news/2021/09/24/afghan-women-fleeing-violence-lose-vital-protection (last visited Apr. 8, 2022).

⁹⁷ Freedom of the World 2022, Afghanistan, Freedom House, Feb. 28, 2022, available at: https://freedomhouse.org/country/afghanistan/freedom-world/2022 (last visited Apr. 8. 2022).

Afghan women are becoming “socially invisible” in public life.⁹⁸ The By-Law of the Commission for Preaching and Guidance, Recruitment and Propagation of Virtue and the Prevention of Vice, a manual used by the Taliban in a number of provinces since August 2021, and now across the country, place “tough restrictions on the conduct of women and girls.” ⁹⁹ These authorities provide instruction on which family members qualify to be a mahram, or chaperone, for women and older girls, and commands women to wear a veil when in the presence of non-mahrams.¹⁰⁰ In some parts of the country, women have been barred from leaving their home without a mahram ¹⁰¹ and have been attacked or blocked from receiving social services such as healthcare when leaving their home without a mahram.¹⁰² The manual also requires women to wear a hijab and veil in public.¹⁰³ As punishments for non-conformity, the Taliban has carried out lashings and executions.¹⁰⁴

⁹⁸ Marie McAuliffe, Struggling to Survive: Gender, Displacement, and Migration in Taliban-Controlled Afghanistan, Center for Strategic & International Studies, Feb. 23, 2022, https://www.csis.org/analysis/struggling-survive-gender-displacement-and-migration-taliban-controlled-afghanistan (last visited Apr. 8, 2022).

⁹⁹ Afghanistan: Taliban `Vice' Handbook Abusive, Discriminatory Rules, Ignored Protections, Human Rights Watch, Oct. 29, 2021, available at: https://www.hrw.org/news/2021/10/29/afghanistan-taliban-vice-handbook-abusive (last visited Apr. 8. 2022).

¹⁰⁰ Afghanistan: Taliban `Vice' Handbook Abusive, Discriminatory Rules, Ignored Protections, Human Rights Watch, Oct. 29, 2021, available at: https://www.hrw.org/news/2021/10/29/afghanistan-taliban-vice-handbook-abusive (last visited Apr. 8. 2022).

¹⁰¹ Country of Origin Information (COI) Brief Report, Afghanistan: Recent developments in the security situation, impact on civilians and targeted individuals, Ministry of Immigration and Integration, The Danish Immigration Service, p. 1, Sept. 2021, available at: https://www.ecoi.net/en/file/local/2060188/Afghanistan_Targetedindiv_FINAL.pdf (last visited Apr. 8, 2022).

¹⁰² Heather Barr, Afghan Women Watching the Walls Close In, Taliban Crushes Women's Freedom of Movement and Other Rights, Human Rights Watch, Mar. 2, 2022, available at: https://www.hrw.org/news/2022/03/02/afghan-women-watching-walls-close (last visited Apr. 8, 2022).

¹⁰³ Afghanistan: Taliban `Vice' Handbook Abusive, Discriminatory Rules, Ignored Protections, Human Rights Watch, Oct. 29, 2021, available at: https://www.hrw.org/news/2021/10/29/afghanistan-taliban-vice-handbook-abusive (last visited Apr. 8. 2022).

¹⁰⁴ Country Guidance: Afghanistan, Common analysis and guidance note, European Asylum Support Office (EASO), p. 78, Nov. 2021, available at: https://www.easo.europa.eu/sites/default/files/Country_Guidance_Afghanistan_2021.pdf (last visited Apr. 8, 2022).

Reports indicate that women were forced to marry Taliban fighters prior to the takeover of Kabul in 2021.¹⁰⁵ Although the Taliban has denied the occurrence of forced marriage, local activists report the practice occurs, stating that women are being married as “sexual slaves.” ¹⁰⁶ A statement shared on social media featuring Taliban insignia instructed religious leaders in Takhar and Badakhshan “to refer girls older than 15 and widows younger than 45” to the “Mujahideen Cultural Commission” for marriage to Taliban fighters.¹⁰⁷

¹⁰⁵ Country of Origin Information (COI) Brief Report, Afghanistan: Recent developments in the security situation, impact on civilians and targeted individuals, Ministry of Immigration and Integration, The Danish Immigration Service, p. 1, Sept. 2021, available at: https://www.ecoi.net/en/file/local/2060188/Afghanistan_Targetedindiv_FINAL.pdf (last visited Apr. 8, 2022) (citing Lynne O'Donnell, As Taliban Expand Control, Concerns About Forced Marriage and Sex Slavery Rise, Foreign Policy, Jul. 23, 2021, available at: https://foreignpolicy.com/2021/07/23/afghanistan-taliban-women-gender/; and Frud Bezhan & Mustafa Sarwar, Return To The `Dark Days': Taliban Reimposes Repressive Laws On Women In Newly Captured Areas in Afghanistan, Radio Free Europe/Radio Liberty, Jul. 14, 2021, available at: https://gandhara.rferl.org/a/taliban-repression-afghan-women/31358597.html).

¹⁰⁶ Country Policy and Information Note Afghanistan: Fear of the Taliban [Version 1.0], UK Home Office, p. 33-34, Oct. 2021, available at: https://www.ecoi.net/en/file/local/2061589/AFG_CPIN_Fear_of_the_Taliban.pdf (last visited Apr. 8, 2022) (citing Taliban trying to force Afghan girls as young as 13 into marriage, The National, Aug. 3, 2021, https://www.thenationalnews.com/world/asia/2021/08/03/taliban-trying-to-force-afghan-girls-as-young-as-13-into-marriage/).

¹⁰⁷ Country Policy and Information Note Afghanistan: Fear of the Taliban [Version 1.0], UK Home Office, p. 33-34, Oct. 2021, available at: https://www.ecoi.net/en/file/local/2061589/AFG_CPIN_Fear_of_the_Taliban.pdf (last visited Apr. 8, 2022) (citing Taliban trying to force Afghan girls as young as 13 into marriage, The National, August 3, 2021, available at: https://www.thenationalnews.com/world/asia/2021/08/03/taliban-trying-to-force-afghan-girls-as-young-as-13-into-marriage/).

The Taliban have banned girls from attending secondary school past the sixth grade,¹⁰⁸ although the Taliban permitted women to attend universities in February 2022.¹⁰⁹ Rules segregating teachers and classes according to gender “exacerbated a severe teacher shortage and threaten to eliminate higher education opportunities for girls.” ¹¹⁰

¹⁰⁸ Fereshta Abbasi, Afghan Girls' Education: `I Don't Think I Have a Future,' Closing Secondary Schools to Girls Causing Lasting Harm, Human Rights Watch, Oct. 31, 2021, available at: https://www.hrw.org/news/2021/10/31/afghan-girls-education-i-dont-think-i-have-future (last visited Apr. 8, 2022).

¹⁰⁹ Ayaz Gul, All Public Universities in Afghanistan Open to Male, Female Students, Voice of America (VOA), Feb. 26, 2022, available at: https://www.voanews.com/a/all-public-universities-in-afghanistan-open-to-male-female-students/6461202.html (last visited Apr. 15, 2022); The Taliban closes Afghan girls' schools hours after reopening, Al Jazeera, Mar. 23, 2022, available at: https://www.aljazeera.com/news/2022/3/23/taliban-orders-girls-schools-shut-hours-after-reopening (last visited May 3, 2022).

¹¹⁰ Christina Goldbaum, Taliban Allow Girls to Return to Some High Schools, but With Big Caveats, N.Y. Times, Oct. 27, 2021, updated Nov. 3, 2021, available at: https://www.nytimes.com/2021/10/27/world/asia/afghan-girls-school-taliban.html?searchResultPosition=8 (last visited Apr. 8, 2022).

Afghan women are unable to hold positions of authority in almost all spheres of public life.¹¹¹ They have been “barred from paid employment, except as teachers for girls and health-care workers.” ¹¹² Women aid employees are allowed to work unconditionally in just three out of 34 provinces.¹¹³ In the remaining provinces, “women aid workers face severe restrictions, such as requirements for a male family member to escort them while they do their jobs, making it difficult or impossible for them to do their job effectively.” ¹¹⁴ In the legal field, female lawyers and judges “have left the courts under Taliban pressure” and “live in a state of perpetual fear that they or their loved ones could be tracked down and killed.” ¹¹⁵ Although Taliban representatives claim that female lawyers and judges are protected by a general amnesty for all former government workers, these women fear retribution for their work.¹¹⁶

¹¹¹ Marie McAuliffe, Struggling to Survive: Gender, Displacement, and Migration in Taliban-Controlled Afghanistan, Center for Strategic & International Studies, Feb. 23, 2022, available at: https://www.csis.org/analysis/struggling-survive-gender-displacement-and-migration-taliban-controlled-afghanistan (last visited Apr. 8, 2022).

¹¹² HRW Says Donors Should Link Afghan Aid to Taliban's Observing Rights for Girls, Women, Gandahara Radio Free Europe/Radio Liberty, Mar. 21, 2022, available at: https://gandhara.rferl.org/a/hrw-donors-afghan-aid-taliban-womens-rights/31762920.html (last visited Apr. 8, 2022).

¹¹³ Afghanistan: Taliban Blocking Female Aid Workers, Human Rights Watch, Nov. 4, 2021, available at: https://www.hrw.org/news/2021/11/04/afghanistan-taliban-blocking-female-aid-workers (last visited Apr. 8, 2022).

¹¹⁴ Afghanistan: Taliban Blocking Female Aid Workers, Human Rights Watch, Nov. 4, 2021, available at: https://www.hrw.org/news/2021/11/04/afghanistan-taliban-blocking-female-aid-workers (last visited Apr. 8, 2022.

¹¹⁵ David Zucchino, Afghan Women Who Once Presided Over Abuse Cases Now Fear for Their Lives, N.Y. Times, Oct. 20, 2021, updated Oct. 22, 2021, available at: https://www.nytimes.com/2021/10/21/world/asia/afghan-judges-women-taliban.html?searchResultPosition=5 (last visited Apr. 8, 2022).

¹¹⁶ David Zucchino, Afghan Women Who Once Presided Over Abuse Cases Now Fear for Their Lives, N.Y. Times, Oct. 20, 2021, updated Oct. 22, 2021, available at: https://www.nytimes.com/2021/10/21/world/asia/afghan-judges-women-taliban.html?searchResultPosition=5 (last visited Apr. 8, 2022).

Women activists and former members of public life have been targeted with severe violence since the Taliban takeover of Kabul. Protests by women “outraged by the . . . hard-line” nature of the Taliban's so-called “caretaker government” have been met by violence from the Taliban fighters.¹¹⁷ According to ACLED, during the week of October 30 to November 5, 2021, “the bodies of four women civil society activists were recovered in Balkh province, including a well-known women's rights defender . . . [allegedly] killed by an organized network targeting civil society activists, who introduced themselves as representatives of a human rights organization.” ¹¹⁸

¹¹⁷ Yaroslav Trofimov, Afghan Women Protest Hard-Line Taliban Government, Face Violent Crackdown, The Wall Street Journal, Sep. 8, 2021, available at: https://www.wsj.com/articles/afghan-women-protest-talibans-all-male-government-face-violent-crackdown-11631105098 (last visited May 3, 2022), cited by: Taliban Government in Afghanistan: Background and Issues for Congress, Congressional Research Service, p. 20, Nov. 2, 2021, available at: https://crsreports.congress.gov/product/pdf/R/R46955 (last visited Apr. 8, 2022).

¹¹⁸ Regional Overview: South Asia and Afghanistan 30 October to 5 November 2021, ACLED, Nov. 2021, available at: https://acleddata.com/2021/11/11/regional-overview-south-asia-and-afghanistan-30-october-5-november-2021/ (last visited Apr. 8, 2022).

ii. Targeted Killings and Evictions of Hazaras

Hazaras have been “historic victims of prejudice on religious and ethnic grounds.” ¹¹⁹ Though they made progress in achieving parity with other ethnic groups over the last two decades, Hazaras were particular targets of harm by the Taliban during the Taliban's period of rule from 1996-2001. Recently, Taliban fighters massacred nine ethnic Hazara men after taking control of Ghazni province in July 2021.¹²⁰ Hazaras, an ethnic Shia minority, are also enduring a pattern of increasing sectarian attacks from ISIS-K, which over the last several years “has been blamed for dozens of bombings and gun attacks on mosques, shrines, schools . . . [as] the group views Shiites as apostates.” ¹²¹

¹¹⁹ Thomas Barfield, Afghanistan: A Cultural and Political History, p.26, (Princeton University Press, 2010).

¹²⁰ Afghanistan: Taliban responsible for brutal massacre of Hazara men—new investigation, Amnesty International, Aug. 19, 2021, available at: https://www.amnesty.org/en/latest/news/2021/08/afghanistan-taliban-responsible-for-brutal-massacre-of-hazara-men-new-investigation/ (last visited Apr. 8, 2022).

¹²¹ Pamela Constable, After Kabul school attack, Afghans fear a return to violence, The Washington Post, Apr. 20, 2022, available at: https://www.washingtonpost.com/world/2022/04/20/afghanistan-school-attack-isis-hazara/ (last visited May 3, 2022).

Human Rights Watch and other sources have reported that the Taliban has begun forcibly evicting Hazaras from their homes, including 700 from the central province of Daikundi in late September 2021,¹²² hundreds of families from the southern Helmand province and northern Balkh province,¹²³ and others from Daikundi, Uruzgan, and Kandahar provinces.¹²⁴ Human Rights Watch stated that ISIS-K “has repeatedly carried out devastating attacks that appear designed to spread terror and inflict maximum suffering particularly on Afghanistan's Hazara community.” ¹²⁵ Reuters reported that “[w]ith more than 400 Shi'ite mosques in Kabul alone, total security is impossible and no one knows where the next attack will come.” ¹²⁶

¹²² Gulamaiz Sharifi, Abubakar Siddique, Afghan Hazaras Fear The Worst After Forced Taliban Evictions, Radio Free Europe/Radio Liberty, Oct. 6, 2021, available at: https://gandhara.rferl.org/a/afghanistan-hazaras-taliban/31496224.html (last visited Apr. 8, 2022).

¹²³ Afghanistan: Taliban Forcibly Evict Minority Shia, Hazaras, Former Civil Servants Targets of Collective Punishment, Land-Grabbing, Human Rights Watch, Oct. 22, 2021, available at: https://www.hrw.org/news/2021/10/22/afghanistan-taliban-forcibly-evict-minority-shia (last visited Apr. 8, 2022).

¹²⁴ Afghanistan: Taliban Forcibly Evict Minority Shia, Hazaras, Former Civil Servants Targets of Collective Punishment, Land-Grabbing, Human Rights Watch, Oct. 22, 2021, available at: https://www.hrw.org/news/2021/10/22/afghanistan-taliban-forcibly-evict-minority-shia (last visited Apr. 8, 2022).

¹²⁵ Afghanistan: Surge in Islamic State Attacks on Shia, ISIS Affiliate's Targeted Killings Amount to Crimes Against Humanity, Human Rights Watch, Oct. 25, 2021, available at: https://www.hrw.org/news/2021/10/25/afghanistan-surge-islamic-state-attacks-shia (last visited Apr. 8, 2022).

¹²⁶ Gibran Naiyyar Peshimam, For Afghan Hazaras, where to pray can be life and death choice, Reuters, Oct. 21, 2021, available at: https://www.reuters.com/world/asia-pacific/afghan-hazaras-where-pray-can-be-life-death-choice-2021-10-21/ (last visited Apr. 8, 2022).

iii. Restrictions and Risks in Cases of Nonconformity

Optimism that the current Taliban may be more moderate than the Taliban was from 1996-2001 has faded, as they are reportedly targeting journalists,¹²⁷ artists and musicians,¹²⁸ barbers and those working in fashion,¹²⁹ civil society participants and protestors.¹³⁰ According to Amnesty International, these actions have created a climate of fear and intimidation that has caused many Afghan nationals to engage in self-censoring, adopting conservative attire, and abandoning former employment and public life.¹³¹ For example, according to the chairperson of the Afghanistan Independent Human Rights Commission, those formerly employed as “[l]awyers, judges and prosecutors are mostly in hiding.” ¹³² The Taliban have announced that they will once again carry out executions and amputations of hands for criminal offenses, and have begun doing so.¹³³

¹²⁷ Afghanistan: Journalists tell of beatings by Taliban, BBC News, Sept. 9, 2021, available at: https://www.bbc.com/news/world-asia-58500579 (last visited Apr. 8, 2022).

¹²⁸ Javier C. Hernández, Musicians Flee Afghanistan, Fearing Taliban Rule, N.Y. Times, Nov. 17, 2021, available at: https://www.nytimes.com/2021/10/03/arts/music/afghanistan-musicians-flee.html (last visited Apr. 8, 2022); Afghanistan: Gunmen attack wedding to stop music being played, BBC News, Oct. 31, 2021, available at: https://www.bbc.com/news/world-asia-59107046 (last visited Apr. 8, 2022).

¹²⁹ The Taliban Order Barbers Not To Shave Beards In Afghan Province Of Helmand, NPR, Sept. 27, 2021, available at: https://www.npr.org/2021/09/27/1041025238/the-taliban-order-barbers-not-to-shave-beards-in-afghan-province-of-helmand (last visited Apr. 8, 2022).

¹³⁰ Matthieu Aikins et al., As Taliban Crush Dissent, New Leaders Face Cascading Challenges, N.Y. Times, Nov. 9, 2021, available at: https://www.nytimes.com/2021/09/08/world/asia/taliban-protests-pakistan.html?referringSource=articleShare (last visited Apr. 8, 2022).

¹³¹ Afghanistan: Taliban wasting no time in stamping out human rights says new briefing, Amnesty International, Sept. 21, 2021, available at: https://www.amnesty.org/en/latest/news/2021/09/afghanistan-taliban-wasting-no-time-in-stamping-out-human-rights-says-new-briefing/ (last visited May 4, 2022).

¹³² Public Displays of Corpses Signal Return of Hard-Line Afghan Taliban, Voice of America (VOA) News, Sept. 27, 2021, available at: https://www.voanews.com/a/public-displays-of-corpses-signal-return-of-hard-line-afghan-taliban-/6248297.html (last visited Apr. 8, 2022).

¹³³ Taliban Official Says Strict Punishment And Executions Will Return, NPR, Sept. 24, 2021, available at: https://www.npr.org/2021/09/24/1040339286/taliban-official-says-strict-punishment-and-executions-will-return (last Apr. 8, 2022); The Taliban's Sharia is the Most Brutal of All, Foreign Policy, Oct.13, 2021, available at https://foreignpolicy.com/2021/10/13/the-talibans-sharia-is-the-most-brutal-of-all/ (last visited May 4, 2022).

iv. Challenges for Individuals With Disabilities

At least one in five households in Afghanistan includes an adult or child with a serious sensory, psychosocial, intellectual, or physical disability, making Afghanistan one of the largest per capita populations of individuals with disabilities in the world.¹³⁴ Unlike many other marginalized populations, merely the removal of discrimination does not automatically enable equal participation in society; rather there are often necessary accommodations or remediations that must happen in physical, communications, or other infrastructures.¹³⁵ Access to physical rehabilitation services is “. . . complicated by poverty, poor quality roads, and danger along the way due to armed conflict.” ¹³⁶ After the Taliban takeover in 2021, any strides that Afghanistan had made in protecting the rights of the disabled through the signing and ratifying of conventions under the administrations of Hamid Karzai and Ashraf Ghani “have been virtually abandoned” as the withdrawal of foreign aid has “reduced both the funds to implement these programs and international commitments[,] and the Afghan leadership's interest in carrying them out.” ¹³⁷ The European Asylum Support Office (EASO) confirms the stigmatization of individuals with physical and mental disabilities, with “women, displaced persons and returned migrants with mental health issues” being particularly vulnerable.¹³⁸ EASO also notes the “lack of appropriate infrastructure and specialist care that covers the needs of people with disabilities.” ¹³⁹

¹³⁴ “Disability Is Not Weakness,” Discrimination and Barriers Facing Women and Girls with Disabilities in Afghanistan, Human Rights Watch, p. 1, Apr. 2020, available at: https://www.hrw.org/sites/default/files/report_pdf/afghanistan0420_web_0.pdf (last visited Apr. 8, 2022).

¹³⁵ Convention on the Rights of Persons with Disabilities, The United Nations Human Rights Office (OHCHR), Dec. 13, 2006, available at: https://www.ohchr.org/en/instruments-mechanisms/instruments/convention-rights-persons-disabilities (last visited May 4, 2022).

¹³⁶ “Disability Is Not Weakness,” Discrimination and Barriers Facing Women and Girls with Disabilities in Afghanistan, Human Rights Watch, p. 17, Apr. 2020, available at: https://www.hrw.org/sites/default/files/report_pdf/afghanistan0420_web_0.pdf (last visited Apr. 8, 2022).

¹³⁷ Chris Fitzgerald, Humanitarian Crisis And Neglect In Afghanistan Puts People With Disabilities At Risk, The Organization for World Peace, Jan. 19, 2022, available at: https://theowp.org/reports/humanitarian-crisis-and-neglect-in-afghanistan-puts-people-with-disabilities-at-risk/ (last visited May 3, 2022).

¹³⁸ Country Guidance: Afghanistan, Common analysis and guidance note, European Asylum Support Office (EASO), p. 88, Nov. 2021, available at: https://www.easo.europa.eu/sites/default/files/Country_Guidance_Afghanistan_2021.pdf (last visited Apr. 8, 2022).

¹³⁹ Country Guidance: Afghanistan, Common analysis and guidance note, European Asylum Support Office (EASO), p. 88, Nov. 2021, available at: https://www.easo.europa.eu/sites/default/files/Country_Guidance_Afghanistan_2021.pdf (last visited Apr. 8, 2022).

What authority does the Secretary have to designate Afghanistan for TPS?

Section 244(b)(1) of the INA, 8 U.S.C. 1254a(b)(1), authorizes the Secretary, after consultation with appropriate agencies of the U.S. Government, to designate a foreign state (or part thereof) for TPS if the Secretary determines that certain country conditions exist.¹⁴⁰ The decision to designate any foreign state (or part thereof) is a discretionary decision, and there is no judicial review of any determination with respect to the designation, termination, or extension of a designation. See INA section 244(b)(5)(A); 8 U.S.C. 1254a(b)(5)(A).¹⁴¹ The Secretary, in his or her discretion, may then grant TPS to eligible nationals of that foreign state (or individuals having no nationality who last habitually resided in the designated foreign state). See INA section 244(a)(1)(A), 8 U.S.C. 1254a(a)(1)(A).

¹⁴⁰ INA section 244(b)(1) ascribes this power to the Attorney General. Congress transferred this authority from the Attorney General to the Secretary of Homeland Security. See Homeland Security Act of 2002, Public Law 107-296, 116 Stat. 2135. The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. Id., at section 244(b)(1).

¹⁴¹ This issue of judicial review is the subject of litigation. See, e.g., Ramos v. Wolf, 975 F.3d 872 (9th Cir. 2020), petition for en banc rehearing filed Nov. 30, 2020 (No. 18-16981); Saget v. Trump, 375 F. Supp. 3d 280 (E.D.N.Y. 2019).

At least 60 days before the expiration of a foreign state's TPS designation or extension, the Secretary, after consultation with appropriate U.S. Government agencies, must review the conditions in the foreign state designated for TPS to determine whether they continue to meet the conditions for the TPS designation. See INA section 244(b)(3)(A), 8 U.S.C. 1254a(b)(3)(A). If the Secretary determines that the foreign state continues to meet the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

Notice of the Designation of Afghanistan for TPS

By the authority vested in me as Secretary under INA section 244, 8 U.S.C. 1254a, I have determined, after consultation with the appropriate U.S. Government agencies, the statutory conditions supporting Afghanistan's designation for TPS on the basis of ongoing armed conflict and extraordinary and temporary conditions are met. See INA section 244(b)(1)(A) and (C), 8 U.S.C. 1254a(b)(1)(A) and (C). I estimate up to approximately 72,500 individuals may be eligible for TPS under the designation of Afghanistan. On the basis of this determination, I am designating Afghanistan for TPS for 18 months, from May 20, 2022 through November 20, 2023. See INA section 244(b)(1)(C) and (b)(2); 8 U.S.C. 1254a(b)(1)(C), and (b)(2).

Alejandro N. Mayorkas,
Secretary, U.S. Department of Homeland Security.

Eligibility and Employment Authorization for TPS

Required Application Forms and Application Fees To Register for TPS

To register for TPS based on the designation of Afghanistan, you must submit a Form I-821, Application for Temporary Protected Status, and pay the filing fee or request a fee waiver, which you may submit on Form I-912, Request for Fee Waiver. You may be required to pay the biometric services fee. If you can demonstrate an inability to pay the biometric services fee, you may request to have the fee waived. Please see additional information under the “Biometric Services Fee” section of this notice.

TPS beneficiaries are authorized to work in the United States. You are not required to submit Form I-765 or have an EAD but see below for more information if you want to work in the United States.

For more information on the application forms and fees for TPS, please visit the USCIS TPS web page at uscis.gov/tps. Fees for the Form I-821, the Form I-765, and biometric services are also described in 8 CFR 103.7(b)(1)(i).

How can TPS beneficiaries obtain an Employment Authorization Document (EAD)?

Everyone must provide their employer with documentation showing that they have the legal right to work in the United States. TPS beneficiaries are eligible to obtain an EAD, which proves their legal right to work. TPS applicants who want to obtain an EAD must file the Form I-765, Application for Employment Authorization, and pay the fee or request a fee waiver, by submitting Form I-912, Request for Fee Waiver. TPS applicants may file this form along with their TPS application, or at a later date, provided their TPS application is still pending or has been approved.

Refiling an Initial TPS Registration Application After Receiving a Denial of a Fee Waiver Request

If you receive a denial of a fee waiver request, you must refile your Form I-821 for TPS along with the required fees during the registration period, which extends until November 20, 2023. You may also file for your EAD on Form I-765 with payment of the fee along with your TPS application or at any later date you decide you want to request an EAD during the registration period.

Filing Information

USCIS offers the option to applicants for TPS under Afghanistan's designation to file Form I-821 and related requests for EADs online or by mail. When filing a TPS application, applicants can also request an EAD by submitting a completed Form I-765, Application for Employment Authorization, with their Form I-821.

Online filing: Form I-821 and Form I-765 are available for concurrent filing online.¹⁴² To file these forms online, you must first create a USCIS online account.¹⁴³

¹⁴² Find information about online filing at “Forms Available to File Online,” https://www.uscis.gov/file-online/forms-available-to-file-online.

¹⁴³ https://myaccount.uscis.gov/users/sign_up.

Mail filing: Mail your application for TPS to the proper address in Table 1.

Table 1—Mailing Addresses

Mail your completed Form I-821, Application for Temporary Protected Status, Form I-765, Application for Employment Authorization, and Form I-912, Request for Fee Waiver, if applicable, and supporting documentation to the proper address in Table 1.

Table 1—Mailing Addresses
If . . . | Mail to . . .
You are using the U.S. Postal Service (USPS) and you live in Alaska, Arizona, California, Colorado, Hawaii, Idaho, Kansas, Montana, Nebraska, Nevada, New Mexico, North Dakota, Oklahoma, Oregon, South Dakota, Texas, Utah, Washington, Wyoming | USCIS, Attn: TPS Afghanistan, P.O. Box 20300, Phoenix, AZ 85036-0300.
You are using FedEx, UPS, or DHL and you live in Alaska, Arizona, California, Colorado, Hawaii, Idaho, Kansas, Montana, Nebraska, Nevada, New Mexico, North Dakota, Oklahoma, Oregon, South Dakota, Texas, Utah, Washington, Wyoming | USCIS, Attn: TPS Afghanistan (Box 20300), 1820 E. Skyharbor Circle S, Suite 100, Phoenix, AZ 85034-4850.
You are using the U.S. Postal Service (USPS) and live in Alabama, Arkansas, Connecticut, Delaware, District of Columbia, Florida, Georgia, Illinois, Indiana, Iowa, Kentucky, Louisiana, Maine, Maryland, Massachusetts, Michigan, Minnesota, Mississippi, Missouri, New Hampshire, New Jersey, New York, North Carolina, Ohio, Pennsylvania, Rhode Island, South Carolina, Tennessee, Vermont, Virginia, West Virginia, Wisconsin | USCIS, Attn: TPS Afghanistan, P.O. Box 805282, Chicago, IL 60680-5285.
You are using FedEx, UPS, or DHL and live in Alabama, Arkansas, Connecticut, Delaware, District of Columbia, Florida, Georgia, Illinois, Indiana, Iowa, Kentucky, Louisiana, Maine, Maryland, Massachusetts, Michigan, Minnesota, Mississippi, Missouri, New Hampshire, New Jersey, New York, North Carolina, Ohio, Pennsylvania, Rhode Island, South Carolina, Tennessee, Vermont, Virginia, West Virginia, Wisconsin | USCIS, Attn: TPS Afghanistan, (Box 805282), 131 South Dearborn—3rd Floor, Chicago, IL 60603-5517.

If you were granted TPS by an immigration judge (IJ) or the Board of Immigration Appeals (BIA) and you wish to request an EAD, please mail your Form I-765 application to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (i.e., registering) for TPS on the USCIS website at uscis.gov/tps under “Afghanistan.”

Travel

TPS beneficiaries may also apply for and be granted travel authorization as a matter of discretion. You must file for travel authorization if you wish to travel outside of the United States. If granted, travel authorization gives you permission to leave the United States and return during a specific period. To request travel authorization, you must file Form I-131, Application for Travel Document, available at www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are . . . | Mail to . . .
Filing Form I-131 together with a Form I-821, Application for Temporary Protected Status | The address provided in Table 1.
Filing Form I-131 based on a pending or approved Form I-821, and you are using the U.S. Postal Service (USPS): You must include a copy of the receipt notice (Form I-797C) showing we accepted or approved your Form I-821 | USCIS, Attn: I-131 TPS, P.O. Box 660167, Dallas, TX 75266-0867.
Filing Form I-131 based on a pending or approved Form I-821, and you are using FedEx, UPS, or DHL: You must include a copy of the receipt notice (Form I-797C) showing we accepted or approved your Form I-821 | USCIS, Attn: I-131 TPS, 2501 S. State Hwy. 121 Business, Ste. 400, Lewisville, TX 75067.

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at uscis.gov/tps. If necessary, you may be required to visit an Application Support Center to have your biometrics captured. For additional information on the USCIS biometric screening process, please see the USCIS Customer Profile Management Service Privacy Impact Assessment, available at dhs.gov/privacy.

General Employment-Related Information for TPS Applicants and Their Employers

How can I obtain information on the status of my TPS application and EAD request?

To get case status information about your TPS application, as well as the status of your TPS-based EAD request, you can check Case Status Online at uscis.gov, or visit the USCIS Contact Center at uscis.gov/contactcenter. If your Form I-765 has been pending for more than 90 days, and you still need assistance, you may ask a question about your case online at egov.uscis.gov/e-request/Intro.do or call the USCIS Contact Center at 800-375-5283 (TTY 800-767-1833).

When hired, what documentation may I show to my employer as evidence of identity and employment authorization when completing Form I-9?

You can find the Lists of Acceptable Documents on the last page of Form I-9, Employment Eligibility Verification, as well as the Acceptable Documents web page at uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at uscis.gov/I-9Central. An EAD is an acceptable document under List A.

If I have an EAD based on another immigration status, can I obtain a new TPS-based EAD?

Yes, if you are eligible for TPS, you can obtain a new TPS-based EAD, regardless of whether you have an EAD or work authorization based on another immigration status. If you want to obtain a new TPS-based EAD valid through November 20, 2023, then you must file Form I-765, Application for Employment Authorization, and pay the associated fee (unless USCIS grants your fee waiver request).

Can my employer require that I provide any other documentation such as evidence of my status or proof of my Afghan citizenship or a Form I-797C showing that I registered for TPS for Form I-9 completion?

No. When completing Form I-9, employers must accept any documentation you choose to present from the Form I-9 Lists of Acceptable Documents that reasonably appears to be genuine and that relates to you, or an acceptable List A, List B, or List C receipt. Employers need not reverify List B identity documents. Employers may not request proof of Afghan citizenship or proof of registration for TPS when completing Form I-9 for new hires or reverifying the employment authorization of current employees. Refer to the “Note to Employees” section of this Federal Register notice for important information about your rights if your employer rejects lawful documentation, requires additional documentation, or otherwise discriminates against you based on your citizenship or immigration status, or your national origin.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from Form I-9 differs from records available to DHS.

Employers may not terminate, suspend, delay training, withhold or lower pay, or take any adverse action against an employee because of a TNC while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at justice.gov/ier and the USCIS and E-Verify websites at uscis.gov/i-9-central and e-verify.gov.

Note Regarding Federal, State, and Local Government Agencies (Such as Departments of Motor Vehicles)

For Federal purposes, individuals approved for TPS may show their Form I-797, Notice of Action, indicating approval of their Form I-821 application, or their A12 or C19 EAD to prove that they have TPS or a pending TPS application. However, while Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are covered under TPS or show you are authorized to work based on TPS. Examples of such documents are:

• Your new EAD with a category code of A12 or C19 for TPS, regardless of your country of birth;

• A copy of your Form I-94, Arrival/Departure Record; or

• Form I-797, the notice of approval, for your Form I-821, Application for Temporary Protected Status, if you received one from USCIS.

Check with the government agency regarding which document(s) the agency will accept.

Some benefit-granting agencies use the SAVE program to confirm the current immigration status of applicants for public benefits. SAVE can verify when an individual has TPS based on the documents above. In most cases, SAVE provides an automated electronic response to benefit-granting agencies within seconds, but occasionally verification can be delayed. You can check the status of your SAVE verification by using CaseCheck at uscis.gov/save/save-casecheck, then by clicking the “Check Your Case” button. CaseCheck is a free service that lets you follow the progress of your SAVE verification using your date of birth and SAVE verification case number or an immigration identifier number that you provided to the benefit-granting agency. If an agency has denied your application based solely or in part on a SAVE response, the agency must offer you the opportunity to appeal the decision in accordance with the agency's procedures. If the agency has received and acted on or will act on a SAVE verification and you do not believe the final SAVE response is correct, please see the SAVE Records: Fast Facts For Benefit Applicants sheet under SAVE Resources at https://www.uscis.gov/save/save-resources for information about how to correct or update your immigration record.

[FR Doc. 2022-10923 Filed 5-19-22; 8:45 am]

BILLING CODE 9111-97-P